DEPARTMENT OF COMMERCE

National Oceanic and Atmospheric Administration

[RTID 0648-XE712]

Endangered Species; File No. 24016

AGENCY: National Marine Fisheries Service (NMFS), National Oceanic and Atmospheric Administration (NOAA), Commerce.

ACTION: Notice; receipt of application for a permit modification.

SUMMARY: Notice is hereby given that Jason Kahn, Ph.D., National Marine Fisheries Service, 1315 East West Highway, Silver Spring, MD 20910, has requested a modification to scientific research Permit No. 24016-01.

DATES: Written comments must be received on or before June 23, 2025.

ADDRESSES: The modification request and related documents are available for review by selecting “Records Open for Public Comment” from the Features box on the Applications and Permits for Protected Species home page, https://apps.nmfs.noaa.gov, and then selecting File No. 24016 Mod 5 from the list of available applications. These documents are also available upon written request via email to NMFS.Pr1Comments@noaa.gov.

Written comments on this application should be submitted via email to NMFS.Pr1Comments@noaa.gov. Please include File No. 24016 in the subject line of the email comment.

Those individuals requesting a public hearing should submit a written request via email to NMFS.Pr1Comments@noaa.gov. The request should set forth the specific reasons why a hearing on this application would be appropriate.

FOR FURTHER INFORMATION CONTACT: Erin Markin, Ph.D., or Shasta McClenahan, Ph.D., (301) 427-8401.

SUPPLEMENTARY INFORMATION: The subject modification to Permit No. 24016-01, issued on August 16, 2023 (88 FR 63085, September 14, 2023) is requested under the authority of the Endangered Species Act of 1973, as amended (16 U.S.C. 1531 et seq.) and the regulations governing the taking, importing, and exporting of endangered and threatened species (50 CFR parts 222 through 226).

Permit No. 24016-01 authorizes the permit holder to conduct scientific research on Atlantic (Acipenser oxyrinchus) and shortnose (A. brevirostrum) sturgeon in freshwater and estuary areas of the Chesapeake Bay and other coastal rivers, assessing sturgeon population and reproductive capacity, as well as monitoring spawning activity, movement, and habitat through telemetry. Atlantic and shortnose sturgeon may be captured using gill or trammel nets, trawls, and trapping nets. All animals are marked with passive integrated transponder (PIT) and Floy tags, genetic tissue sampled, measured, weighed, photographed and released. Subsets of animals are also anesthetized, internally or externally acoustically tagged, biologically sampled (i.e., fin ray, blood, gametes), endoscoped and ultrasounded. Larvae and eggs are collected with D-nets, trawls (i.e., epibenthic sleds), egg mats, or directly sampled from mature females using an egg extraction device. Up to one adult/sub-adult and one juvenile Atlantic sturgeon may be unintentionally killed annually. The permit holder requests authorization to increase the number of adult/subadult Atlantic sturgeon captured from 130 to 200, annually, in the York River, Virginia, to continue the mark-recapture program to understand abundance. Atlantic sturgeon may be captured using the above methods and may be marked, biologically sampled, ultrasound, endoscoped, weighed, measured, and photographed/videoed prior to release. The permit is valid through January 31, 2031.

Dated: May 20, 2025.
Shannon Bettridge,
Chief, Marine Mammal and Sea Turtle Conservation Division, Office of Protected Resources, National Marine Fisheries Service.

[FR Doc. 2025-09325 Filed 5-22-25; 8:45 am]

BILLING CODE 3510-22-P